DEPARTMENT OF HEALTH AND HUMAN SERVICES

Administration for Children and Families

Proposed Information Collection Activity; Comment Request

Proposed Projects

Title: FPLS Child Support Services Portal Registration (FCSSP).

OMB No.: New collection.

Description: The Federal Office of Child Support Enforcement (OCSE) is implementing the Federal Parent Locator Service (FPLS) Child Support Services Portal (FCSSP) for users of the FPLS to access online web applications. The portal Registration Process will provide OCSE, States, employers and multistate financial institutions the ability to create a secure account to view data for their respective applications. In order for users to access the portal, registration is required.

Respondents: OCSE, Employers, Multistate Financial Institutions and State Child Support Agencies.

Annual Burden Estimates
Instrument | Number of respondents | Number of responses per respondent | Average burden hours per response | Total burden hours
Registration Screens: Employers, Financial Institutions and State Child Support Agencies | 520 | 1 | 0.10 | 52

Estimated Total Annual Burden Hours: 52.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 13, 2009.
Janean Chambers,
Reports Clearance Officer.

[FR Doc. E9-11495 Filed 5-15-09; 8:45 am]

BILLING CODE 4184-01-P